DEPARTMENT OF TRANSPORTATION

Coast Guard

[USCG 2001-11237]

Collection of Information Under Review by Office of Management and Budget (OMB): OMB Control Numbers 2115-0596 and 2115-0597

AGENCY: Coast Guard, DOT.

ACTION: Request for comments.

SUMMARY: In compliance with the Paperwork Reduction Act of 1995, the Coast Guard intends to seek the approval of OMB for the renewal of two Information Collection Requests (ICRs). The ICRs comprise (1) Claims Under the Oil Pollution Act of 1990, and (2) State Access to The Oil Spill Liability Trust Fund For Removal Costs Under the Oil Pollution Act of 1990. Before submitting the ICRs to OMB, the Coast Guard is inviting comments on them as described below.

DATES: Comments must reach the Coast Guard on or before March 11, 2002.

ADDRESSES: To make sure that your comments and related material do not enter the docket [USCG 2001-11237] more than once, please submit them by only one of the following means:

(1) By mail to the Docket Management Facility, U.S. Department of Transportation, room PL-401, 400 Seventh Street SW., Washington, DC 20590-0001. Caution: Because of recent delays in the delivery of mail, your comments may reach the Facility more quickly if you choose one of the other means described below.

(2) By delivery to room PL-401 on the Plaza level of the Nassif Building, 400 Seventh Street SW., Washington, DC, between 9 a.m. and 5 p.m., Monday through Friday, except Federal holidays. The telephone number is 202-366-9329.

(3) By fax to the Docket Management Facility at 202-493-2251.

(4) Electronically through the Web site for the Docket Management System at http://dms.dot.gov.

The Docket Management Facility maintains the public docket for this notice. Comments and material received from the public, as well as documents mentioned in this notice as being available in the docket, will become part of this docket and will be available for inspection or copying at room PL-401 on the Plaza level of the Nassif Building, 400 Seventh Street SW., Washington, DC, between 9 a.m. and 5 p.m., Monday through Friday, except Federal holidays. You may also find this docket on the Internet at http://dms.dot.gov.

Copies of the complete ICRs are available through this docket on the Internet at http://dms.dot.gov, and also from Commandant (G-CIM-2), U.S. Coast Guard Headquarters, room 6106 (Attn: Barbara Davis), 2100 Second Street SW., Washington, DC 20593-0001. The telephone number is 202-267-2326.

FOR FURTHER INFORMATION CONTACT: Barbara Davis, Office of Information Management, 202-267-2326, for questions on these documents; or Dorothy Beard, Chief, Documentary Services Division, U.S. Department of Transportation, 202-366-5149, for questions on the docket.

Request for Comments

The Coast Guard encourages interested persons to submit written comments. Persons submitting comments should include their names and addresses, identify this document [USCG 2001-11237], and give the reasons for the comments. Please submit all comments and attachments in an unbound format no larger than 8½ by 11 inches, suitable for copying and electronic filing. Persons wanting acknowledgment of receipt of comments should enclose stamped self-addressed postcards or envelopes.

Information Collection Request

1. Title: Claims Under the Oil Pollution Act of 1990.

OMB Control Number: 2115-0596.

Summary: The Coast Guard will use the information collected to determine whether claims submitted to the Oil Spill Liability Trust Fund are compensable and, if they are, to ensure that the Fund reimburses them in the correct amounts.

Need: Coast Guard will ensure the making of fair and reasonable payments to claimants and will protect the interest of the Federal Government. Claims that are submitted must be fully substantiated, and the procedures for advertising and presentation of claims must be followed, as required by OPA 90 [33 U.S.C. 2708, 2713 and 2714].

Respondents: Claimants and responsible parties of oil spills.

Frequency: On occasion.

Burden Estimate: The estimated burden is 13,722 hours a year.

2. Title: State Access to the Oil Spill Liability Trust Fund for Removal Costs Under the Oil Pollution Act of 1990.

OMB Control Number: 2115-0597.

Summary: The Coast Guard will use information provided by the State to the Coast Guard National Pollution Funds Center to determine whether expenditures submitted by the state to the Fund are compensable and, if they are, to ensure payment of the correct amount of funding from the Oil Spill Liability Trust Fund.

Need: Under the authority of 33 U.S.C. 2712, Coast Guard has promulgated regulations detailing the manner in which to obligate the Fund. To ensure fair and reasonable payments to States and to protect the interests of the Federal Government, States must fully substantiate all expenditures that they submit and must follow the procedures for presentation of those expenditures to the Fund.

Respondents: State Governments.

Frequency: On occasion.

Burden Estimate: The estimated burden is 3 hours a year.

Dated: December 31, 2001.
V.S. Crea,
Director of Information and Technology.

[FR Doc. 02-547 Filed 1-8-02; 8:45 am]

BILLING CODE 4910-15-U